ENVIRONMENTAL PROTECTION AGENCY

40 CFR Part 52

[EPA-R05-OAR-2022-0369; FRL-11761-02-R5]

Air Plan Approval; Wisconsin; Milwaukee Second 10-Year 2006 24-Hour PM2.5 Limited Maintenance Plan

AGENCY: Environmental Protection Agency (EPA).

ACTION: Final rule.

SUMMARY: The Environmental Protection Agency (EPA) is approving the limited maintenance plan (LMP) submitted by the Wisconsin Department of Natural Resources (WDNR) for the Milwaukee-Racine maintenance area including Milwaukee, Waukesha, and Racine counties. The plan addresses the second 10-year maintenance period for particulate matter with an aerodynamic diameter less than or equal to a nominal 2.5 micrometers (PM2.5). EPA is approving Wisconsin's LMP submission for the Milwaukee-Racine maintenance area because it provides for the maintenance of the 2006 PM2.5 National Ambient Air Quality Standards (NAAQS) through the end of the second 10-year portion of the maintenance period. Additionally, EPA finds adequate and is approving the LMP as meeting the appropriate transportation conformity requirements. EPA proposed to approve this action on March 19, 2024, and received no comments.

DATES: This final rule is effective on August 8, 2024.

ADDRESSES: EPA has established a docket for this action under Docket ID No. EPA-R05-OAR-2022-0369. All documents in the docket are listed on the https://www.regulations.gov website. Although listed in the index, some information is not publicly available, i.e., Confidential Business Information (CBI) or other information whose disclosure is restricted by statute. Certain other material, such as copyrighted material, is not placed on the internet and will be publicly available only in hard copy form. Publicly available docket materials are available either through https://www.regulations.gov or at the Environmental Protection Agency, Region 5, Air and Radiation Division, 77 West Jackson Boulevard, Chicago, Illinois 60604. This facility is open from 8:30 a.m. to 4:30 p.m., Monday through Friday, excluding Federal holidays. We recommend that you telephone Cecilia Magos, at (312) 886-7336 before visiting the Region 5 office.

FOR FURTHER INFORMATION CONTACT: Cecilia Magos, Air and Radiation Division (AR18J), Environmental Protection Agency, Region 5, 77 West Jackson Boulevard, Chicago, Illinois 60604, (312) 886-7336, magos.cecilia@epa.gov.

SUPPLEMENTARY INFORMATION: Throughout this document whenever “we,” “us,” or “our” is used, we mean the EPA.

I. Background Information

On November 13, 2009 (74 FR 58688), EPA designated the Milwaukee-Racine area as a PM2.5 nonattainment area due to measured violations of the 2006 PM2.5 NAAQS. On June 8, 2012, and later supplemented on May 30, 2013, WDNR submitted to the EPA a request to redesignate the Milwaukee-Racine nonattainment area to attainment. The submission included a plan to provide for maintenance of the 2006 PM2.5 NAAQS in the area through 2024. EPA redesignated the Milwaukee-Racine area on April 22, 2014 (79 FR 22415), and approved the associated maintenance plan into the Wisconsin State Implementation Plan (SIP). The purpose of WDNR's April 8, 2022, LMP submission is to fulfill the second 10-year planning requirement of Clean Air Act (CAA) section 175A(b) to ensure PM2.5 NAAQS compliance through 2034.

On March 19, 2024 (89 FR 19519), EPA proposed to approve the second 10-year PM2.5 LMP for the Milwaukee-Racine maintenance area addressing the 2006 PM2.5 maintenance area. EPA's approval of the LMP will satisfy CAA section 175A requirements for the second 10-year period for the Milwaukee-Racine 2006 PM2.5 maintenance area through 2034. Further explanation of the CAA requirements, a detailed analysis of the revisions, and the EPA's reasons for proposing approval were provided in the notice of proposed rulemaking (89 FR 19519) and will not be restated here. The public comment period for the proposed rule ended on April 18, 2024. EPA received no comments on the proposal and is finalizing our action as proposed.

II. Final Action

EPA is approving the second 10-year PM2.5 LMP for the Milwaukee-Racine 2006 PM2.5 maintenance area submitted by WDNR. EPA's review of the air quality data for the maintenance area indicates that the State continues to show attainment well below the level of the 2006 PM2.5 NAAQS and that WDNR's LMP meets all the LMP qualifying criteria set forth in the “Guidance on Limited Maintenance Plan Option for Moderate PM2.5 Nonattainment Areas and PM2.5 Maintenance Areas”.¹ EPA's approval of this LMP will satisfy the CAA section 175A requirements for the second 10-year period for the Milwaukee-Racine 2006 PM2.5 maintenance area. The Milwaukee-Racine PM2.5 maintenance area will no longer be required to perform regional emissions analyses as part of the conformity process but must meet project-level conformity analyses requirements as well as other transportation conformity criteria. See 40 CFR 93.109(e).

¹ The guidance document developed by the Office of Air Quality Planning and Standards and the Office of Transportation and Air Quality, within the Office of Air and Radiation, titled “Guidance on the Limited Maintenance Plan Option for Moderate PM2.5 Nonattainment Areas and PM2.5 Maintenance Areas,” can be found at https://nepis.epa.gov/Exe/ZyPDF.cgi?Dockey=P1015UL4.pdf.

III. Statutory and Executive Order Reviews

Under the CAA, the Administrator is required to approve a SIP submission that complies with the provisions of the CAA and applicable Federal regulations. 42 U.S.C. 7410(k); 40 CFR 52.02(a). Thus, in reviewing SIP submissions, the EPA's role is to approve State choices, provided that they meet the criteria of the CAA. Accordingly, this action merely approves State law as meeting Federal requirements and does not impose additional requirements beyond those imposed by State law. For that reason, this action:

• Is not a significant regulatory action subject to review by the Office of Management and Budget under Executive Orders 12866 (58 FR 51735, October 4, 1993), and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where the EPA or an Indian tribe has demonstrated that a tribe has jurisdiction. In those areas of Indian country, the rule does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on minority populations and low-income populations to the greatest extent practicable and permitted by law. The EPA defines environmental justice as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

WDNR did not evaluate environmental justice considerations as part of its SIP submittal; the CAA and applicable implementing regulations neither prohibit nor require such an evaluation. The EPA performed an environmental justice analysis, as is described in the section titled, “Environmental Justice Considerations” in the notice of proposed rulemaking. See 89 FR 19519. The analysis was done for the purpose of providing additional context and information about this rulemaking to the public, not as a basis of the action. Due to the nature of the action being taken here, this action is expected to have a neutral to positive impact on the air quality of the affected area. In addition, there is no information in the record upon which this decision is based that is inconsistent with the stated goal of E.O. 12898 of achieving environmental justice for people of color, low-income populations, and Indigenous peoples.

This action is subject to the Congressional Review Act, and the EPA will submit a rule report to each House of the Congress and to the Comptroller General of the United States. This action is not a “major rule” as defined by 5 U.S.C. 804(2).

Under section 307(b)(1) of the CAA, petitions for judicial review of this action must be filed in the United States Court of Appeals for the appropriate circuit by September 9, 2024. Filing a petition for reconsideration by the Administrator of this final rule does not affect the finality of this action for the purposes of judicial review nor does it extend the time within which a petition for judicial review may be filed and shall not postpone the effectiveness of such rule or action. This action may not be challenged later in proceedings to enforce its requirements. (See section 307(b)(2).)

List of Subjects in 40 CFR Part 52

Environmental protection, Air pollution control, Incorporation by reference, Intergovernmental relations, Particulate matter, Reporting and recordkeeping requirements.

Dated: July 2, 2024.
Debra Shore,
Regional Administrator, Region 5.

For the reasons stated in the preamble, EPA amends title 40 CFR part 52 as follows:

PART 52—APPROVAL AND PROMULGATION OF IMPLEMENTATION PLANS

1. The authority citation for part 52 continues to read as follows:

Authority: 42 U.S.C. 7401 et seq.

2. Section 52.2584 is amended by adding paragraph (g) to read as follows:

§ 52.2584 Control strategy; Particulate matter.

* * * * *

(g) Approval—On August 8, 2024, EPA approved the 2006 24-Hour PM2.5 limited maintenance plan for the second 10-year maintenance period for the Milwaukee-Racine area (Milwaukee, Racine and Waukesha counties) as submitted by the State of Wisconsin on April 8, 2022. The limited maintenance plan submission satisfies the second 10-year planning requirement of section 175A(b) of the Clean Air Act for the Milwaukee-Racine area.

[FR Doc. 2024-14932 Filed 7-8-24; 8:45 am]

BILLING CODE 6560-50-P